DEPARTMENT OF COMMERCE

International Trade Administration

Overseas Trade Missions: 2000 Trade Missions; Automotive Trade Mission to Thailand, the Philippines, Malaysia and Indonesia

AGENCY: International Trade Administration, Department of Commerce.

ACTION: Notice.

SUMMARY: The Department of Commerce invites U.S. companies to participate in the below listed overseas trade missions. For a more complete description of each trade mission, obtain a copy of the mission statement from the Project Officer indicated for each mission below. Recruitment and selection of private sector participants for these missions will be conducted according to the Statement of Policy Governing Department of Commerce Overseas Trade Missions dated March 3, 1997.

Automotive Trade Mission to ASEAN Countries

Bangkok, Thailand; Manila, the Philippines; Kuala Lumpur, Malaysia; Jakarta, Indonesia

April 1-13, 2001

Recruitment closes on January 26, 2001

For further information contact: Mr. Jeffery Dutton, U.S. Department of Commerce. Tel: 202-482-0671, Fax: 202-482-5872, E-Mail: Jeffery_Dutton@ita.doc.gov.

Medical Trade Mission to Israel, Jordan and the United Arab Emirates

Tel Aviv and Jerusalem, Israel; Amman, Jordan; Abu Dhabi, U.A.E.

April 22-29, 2001

Recruitment closes on February 28, 2001

For further information contact: Ms. Lisa Huot, U.S. Department of Commerce. Tel: 202-482-2796, Fax: 202-482-0975, E-Mail: Lisa_Huot@ita.doc.gov.

Information and Communications Technology Trade Mission from Silicon Valley to the Nordic-Baltic Region

Copenhagen, Denmark; Oslo, Norway; Stockholm, Sweden; Helsinki, Finland; St. Petersburg, Russia

December 3-12, 2000

Recruitment closes on November 3, 2000.

For further information contact: Ms. Tish Falco, U.S. Department of Commerce. Tel: 408-970-4615, Fax: 408-970-4618, E-mail: Tish.Falco@mail.doc.gov.

For further information contact Mr. Reginald Beckham, U.S. Department of Commerce. Tel: 202-482-5478, Fax: 202-482-1999.

Dated: September 6, 2000.
Thomas H. Nisbet,
Director, Promotion Planning and Support Division, Office of Export Promotion Coordination.

[FR Doc. 00-23398 Filed 9-11-00; 8:45 am]

BILLING CODE 3510-DR-U